DEPARTMENT OF COMMERCE

National Oceanic and Atmospheric Administration

[I.D. 042405B]

Marine Mammals; File No. 800-1664

AGENCY: National Marine Fisheries Service (NMFS), National Oceanic and Atmospheric Administration (NOAA), Commerce.

ACTION: Notice; denial of permit.

SUMMARY: Notice is hereby given that a request for a major amendment to Scientific Research Permit Number 800-1664, submitted by Dr. Randall Davis, Texas A&M University, Galveston, Texas, for takes of Steller sea lions (Eumetopias jubatus) in Alaska, has been denied.

ADDRESSES: The application and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Dr. Tammy Adams or Amy Sloan, (301)713-2289.

SUPPLEMENTARY INFORMATION: On April 4, 2005, a notice was published in the Federal Register (70 FR 17072) that an application had been filed by the above named individual. The requested permit amendment has been denied and the subject permit revoked pursuant to the terms of an agreement with NOAA in settlement of a Notice of Violation and Assessment and Notice of Permit Sanction.

Dated: April 24, 2006.
Stephen L. Leathery,
Chief, Permits, Conservation and Education Division, Office of Protected Resources, National Marine Fisheries Service.

[FR Doc. E6-6445 Filed 4-27-06; 8:45 am]

BILLING CODE 3510-22-S